DEPARTMENT OF COMMERCE

National Oceanic and Atmospheric Administration

RIN 0648-XD345

Stock Assessment Review Committee Meeting To Review the Gulf of Maine Haddock and the Sea Scallop

AGENCY: National Marine Fisheries Service (NMFS), National Oceanic and Atmospheric Administration (NOAA), Commerce.

ACTION: Notice of public meeting.

SUMMARY: NMFS and the Northeast Regional Stock Assessment Workshop (SAW) will convene the 59th SAW Stock Assessment Review committee (SARC) for the purpose of a review of the stock assessments of the Gulf of Maine (GOM) Haddock and the Sea Scallop. The public is invited to attend the presentations and discussions between the review panel and the NMFS scientists who have participated in the stock assessment process.

DATES: The public portion of the Stock Assessment Review Committee Meeting will be held from July 15 through July 17, 2014. The meeting will commence on July 15, 2014 at 10 a.m. Eastern Standard Time. See SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543.

FOR FURTHER INFORMATION CONTACT: James Weinberg, 508-495-2352; email: James.Weinberg@noaa.gov or Anne O'Brien, 508-495-2177; email: Anne.O'Brien@noaa.gov.

SUPPLEMENTARY INFORMATION: SAW is a formal scientific peer-review process for evaluating and presenting stock assessment results to managers for fish stocks in the offshore US waters of the northwest Atlantic. Assessments are prepared by SAW working groups and reviewed by an independent panel of stock assessment experts called SARC. For further information please visit the Northeast Fisheries Science Center Web site at http://nefsc.noaa.gov/. For additional information about the SARC Meeting and the stock assessment review of the GOM Haddock and the Sea Scallop, please visit the NMFS NEFSC SAW Web site at http://www.nefsc.noaa.gov/nefsc/saw/.

Special Accommodations

This meeting is physically accessible to people with disabilities. Requests for sign language interpretation or other auxiliary aids should be directed to Anne O'Brien at the NEFSC, (508) 495-2177, at least 5 days prior to the meeting date.

Dated: June 18, 2014.
Emily H. Menashes,
Acting Director, Office of Sustainable Fisheries, National Marine Fisheries Service.

[FR Doc. 2014-14727 Filed 6-23-14; 8:45 am]

BILLING CODE 3510-22-P